DEPARTMENT OF TRANSPORTATION

Federal Highway Administration

Environmental Impact Statement: City of San Diego, CA

AGENCY: Federal Highway Administration (FHWA), DOT

ACTION: Notice of intent.

SUMMARY: The FHWA is issuing this notice to advise the public that an environmental impact statement will be prepared for a proposed highway project in the City of San Diego, California.

FOR FURTHER INFORMATION CONTACT: Cesar Perez, Team Leader South Region, Federal Highway Administration, 650 Capitol Mall Suite 4-100, Sacramento, California 95815, Telephone (916) 498-5065, or Jason A. Reynolds, Chief—Environmental Analysis Branch A, California Department of Transportation District 11, 2829 Juan Street, MS 46, San Diego, California 92110, Telephone (858) 616-6609.

SUPPLEMENTARY INFORMATION: The FHWA, in cooperation with the California Department of Transportation and the City of San Diego, will prepare an environmental impact statement (EIS) on a proposal to provide connection between southbound U.S. Interstate 5 to eastbound State Route 56, and between westbound State Route 56 to northbound U.S. Interstate 5. The project may include new connector ramps, interchange improvements, surface street improvements, and/or auxiliary lanes on State Route 56 between Interstate 5 and Carmel Country Road. One auxiliary lane in each direction on Interstate 5 may also be added from State Route 56 to Del Mar Heights Road. Truck bypass lanes may be extended to Del Mar Heights Road on each side of Interstate 5.

Improvements to the corridor are considered necessary to provide for projected traffic demand. Alternatives under consideration include (1) taking no action (2) direct freeway-to-freeway connector ramps; (3) freeway-to-freeway connector ramps with loop; (4) local street improvements; and (5) local street improvements with west to north direct freeway-to-freeway connector ramp.

Letters describing the proposed action and soliciting comments will be sent to appropriate Federal, State, and local agencies, and to private organizations and citizens who have previously expressed or are known to have interest in this proposal. State and local interests have already been involved with initiation of the project and coordination is already being conducted. At least one new scoping meeting is anticipated with the specific date, time, and location to be determined. In addition, a public hearing will be held after publication of the draft EIS. Public notice will be given of the time and place of the hearing. The draft EIS will be available for public and agency review and comment prior to the public hearing.

To ensure that the full range of issues related to this proposed action are addressed and all significant issues identified, comments and suggestions are invited from all interested parties. Comments or questions concerning this proposed action and the EIS should be directed to the FHWA at the address provided above. (Catalog of Federal Domestic Assistance Program Number 20.205, Highway Research, Planning, and Construction. The regulations implementing Executive Order 12372 regarding intergovernmental consultation on Federal programs and activities apply to this program.)

Dated: April 20, 2005.
Cesar Perez,
Team Leader South Region, Sacramento, California.

[FR Doc. 05-8589 Filed 4-28-05; 8:45 am]

BILLING CODE 4910-22-M